DEPARTMENT OF AGRICULTURE

Forest Service

Notice of Proposed New Fee Sites; Federal Lands Recreation Enhancement Act, (Title VIII, Pub. L. 108-447)

AGENCY: Willamette National Forest, USDA Forest Service.

ACTION: Notice of Proposed New Fee Sites.

SUMMARY: The Willamette National Forest is planning to charge fees at six recreation sites. All sites have recently been reconstructed or amenities are being added to improve services and experiences. Fees are assessed based on the level of amenities and services provided, cost of operation and maintenance, market assessment, and public comment.

The fees listed are only proposed and will be determined upon further analysis and public comment. Funds from fees would be used for the continued operation and maintenance of these recreation sites.

Gold Butte and Timber Butte Lookouts will be available for overnight rental. A financial analysis is being completed to determine the rental fee but may range between $40 and $80 per night. Lookout rentals offer a unique experience and are a widely popular offering on National Forests. Gold Butte was recently resorted to maintain the lookout's eligibility to the National Register of Historic Places. Fees would continue to help protect and maintain lookouts and their historic integrity.

The fee structure at Harralson Horse Camp would change from the required Recreation Pass to a $10 per campsite for overnight use. A fee of $5 per additional vehicle would be required per campsite. Recreation passes such as the Northwest Forest Pass would continue to cover day use fees at the trailhead. Additional amenities are proposed for the facility and may include hitching rails, additional corrals and campsites, and a water system. Improvements allow visitors with horses to safely secure their stock while protecting area resources from degradation.

Elk Lake Campground is currently a fee free site. Improvements are being made including designating up to 17 campsites, installing fire rings, picnic tables and adding garbage service. Three new toilets were installed last year. Improvements will address sanitation and safety concerns, and improve deteriorating resource conditions and recreation experiences. A financial analysis is being completed to determine fee rates. The proposed fee to help maintain this site would range between $6 and $8 a campsite, $12-$16 for a double site, and $5 per one additional vehicle per campsite.

Whitewater Trailhead would be re-established as a fee site since amenities such as toilets and garbage service have been added, and interpretive signing is being developed for this site. Recreation Passes such as the Northwest Forest Pass would cover day use fees for this trailhead. Northwest Forest Passes are $5 for a daily pass and $30 for an annual pass. The Forest Service proposes to continue charging a $5 per vehicle fee at Upper Arm Day Use Site from October through March. This newly constructed picnic site and formal swimming area opened in June of 2006, and is operated by Santiam Recreation under a concessionaire special use permit from April through September. The concessionaire currently charges a $5 per vehicle fee during the operating season of their permit.

DATES: New fees would begin after May 2007 and contingent upon completion of certain improvements. The lookout rentals would be available once a final decision is made and is listed with the National Recreation Reservation Service.

ADDRESSES: Dalles Emch, Forest Supervisor, Willamette National Forest, 211 East 7th Avenue, Eugene, Oregon 97401.

FOR FURTHER INFORMATION CONTACT: Dani Pavoni, Recreation Fee Coordinator, 503-854-4208. Information about proposed fee changes can also be found on the Willamette National Forest Web site: http://www.fs.fed.us/r6/willamette/recreation/index.html.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. People wanting to rent Gold Butte or Timber Butte Lookouts would need to do so through the National Recreation Reservation Service, at www.reserveusa.com or by calling 1-877-444-6777 when it becomes available.

Dated: November 21, 2006.
Dalles Emch,
Forest Supervisor.

[FR Doc. 06-9447 Filed 11-28-06; 8:45 am]

BILLING CODE 3410-11-M